FEDERAL MARITIME COMMISSION

Sunshine Act Meeting

AGENCY HOLDING THE MEETING: Federal Maritime Commission.

TIME AND DATE: February 16, 2011—10 a.m.

PLACE: 800 North Capitol Street, NW., First Floor Hearing Room, Washington, DC.

STATUS: The meeting will be an Open Session.

Matters To Be Considered

Open Session

1. Initiative to Modernize the Commission's Rules of Practice and Procedure.

2. Initiative to Review Commission Regulations Consistent with the President's Executive Order 13563: Improving Regulation and Regulatory Review.

3. Docket No. 10-03: Non-Vessel-Operating Common Carrier Negotiated Rate Arrangements—Consideration of Draft Final Rule.

CONTACT PERSON FOR MORE INFORMATION: Karen V. Gregory, Secretary, (202) 523-5725.

Karen V. Gregory,
Secretary.

[FR Doc. 2011-3261 Filed 2-9-11; 4:15 pm]

BILLING CODE 6730-01-P